DEPARTMENT OF DEFENSE

Office of the Secretary

[Transmittal No. 24-94]

Arms Sales Notification

AGENCY: Defense Security Cooperation Agency, Department of Defense (DoD).

ACTION: Arms sales notice.

SUMMARY: The DoD is publishing the unclassified text of an arms sales notification.

FOR FURTHER INFORMATION CONTACT: Urooj Zahra at (703) 695-6233, urooj.zahra.civ@mail.mil, or dsca.ncr.rsrcmgmt.list.cns-mbx@mail.mil.

SUPPLEMENTARY INFORMATION: This 36(b)(1) arms sales notification is published to fulfill the requirements of section 155 of Public Law 104-164 dated July 21, 1996. The following is a copy of a letter to the Speaker of the House of Representatives with attached Transmittal 24-94, Policy Justification, and Sensitivity of Technology.

Dated: November 18, 2025.
Stephanie J. Bost,
Alternate OSD Federal Register Liaison Officer, Department of Defense.

Transmittal No. 24-94

Notice of Proposed Issuance of Letter of Offer Pursuant to Section 36(b)(1) of the Arms Export Control Act, as amended

(i) Prospective Purchaser: Government of Romania

(ii) Total Estimated Value:

Major Defense Equipment* | $4.1 billion
Other | $3.1 billion
TOTAL | $7.2 billion

Funding Source: National Funds

(iii) Description and Quantity or Quantities of Articles or Services under Consideration for Purchase:

Major Defense Equipment (MDE):

Thirty-two (32) F-35A Lightning II Joint Strike Fighter Conventional Take Off and Landing (CTOL) Aircraft

Thirty-three (33) Pratt & Whitney F135-PW-100 engines (32 installed, 1 spare)

Non-Major Defense Equipment:

The following non-MDE items will also be included: AN/PYQ-10 Simple Key Loaders (SKL); Identification Friend or Foe (IFF) equipment, secure communications, precision navigation, and cryptographic equipment; Cartridge Actuated Devices/Propellant Actuated Devices (CAD/PAD); multi-purpose missile equipment; ammunition and weapons components; aircraft and munitions support and support equipment; integration and test support and equipment; spare and repair parts, consumables and accessories, and repair and return support; training aids and devices, and spare parts; major and minor modifications, maintenance, and maintenance support; integrated computer system; electronic warfare data and Reprogramming Lab support; Electronic Combat International Security Assistance Program (ECISAP) software support; aircraft engine Component Improvement Program (CIP) support; classified and unclassified software and software development, delivery, and integration support; classified and unclassified publications and technical documentation; classified and unclassified personnel training, and training gear and equipment; transportation, ferry, and refueling support; facilities and construction support; studies and surveys; Contractor Logistics Support (CLS); United States (U.S.) Government and contractor engineering, technical, and logistics support services; and other related elements of logistics and program support.

(iv) Military Department: Air Force (RO-D-SAG)

(v) Prior Related Cases, if any: None

(vi) Sales Commission, Fee, etc., Paid, Offered, or Agreed to be Paid: None known at this time

(vii) Sensitivity of Technology Contained in the Defense Article or Defense Services Proposed to be Sold: See Attached Annex

(viii) Date Report Delivered to Congress: September 13, 2024

* as defined in Section 47(6) of the Arms Export Control Act.

POLICY JUSTIFICATION

Romania—F-35 Aircraft

The Government of Romania has requested to buy thirty-two (32) F-35A Lightning II Joint Strike Fighter Conventional Take Off and Landing (CTOL) aircraft; and thirty-three (33) Pratt & Whitney F135-PW-100 engines (32 installed, 1 spare). The following non-MDE items will also be included: AN/PYQ-10 Simple Key Loaders (SKL); Identification Friend or Foe (IFF) equipment, secure communications, precision navigation, and cryptographic equipment; Cartridge Actuated Devices/Propellant Actuated Devices (CAD/PAD); multi-purpose missile equipment; ammunition and weapons components; aircraft and munitions support and support equipment; integration and test support and equipment; spare and repair parts, consumables and accessories, and repair and return support; training aids and devices, and spare parts; major and minor modifications, maintenance, and maintenance support; integrated computer system; electronic warfare data and Reprogramming Lab support; Electronic Combat International Security Assistance Program (ECISAP) software support; aircraft engine Component Improvement Program (CIP) support; classified and unclassified software and software development, delivery, and integration support; classified and unclassified publications and technical documentation; classified and unclassified personnel training, and training gear and equipment; transportation, ferry, and refueling support; facilities and construction support; studies and surveys; Contractor Logistics Support (CLS); U.S. Government and contractor engineering, technical, and logistics support services; and other related elements of logistics and program support. The estimated total cost is $7.2 billion.

This proposed sale will support the foreign policy goals and national security objectives of the U.S. by improving the security of a NATO Ally that is an important force for political and economic stability in Europe.

The proposed sale will improve Romania's capability to meet current and future threats by further equipping it to conduct self-defense and regional security missions while enhancing interoperability with the U.S. and other NATO members. Romania will have no difficulty absorbing these articles and services into its armed forces.

The proposed sale of this equipment and support will not alter the basic military balance in the region.

The principal contractor will be Lockheed Martin Aeronautics Company, located in Fort Worth, TX. The purchaser typically requests offsets. Any offset agreement will be defined in negotiations between the purchaser and the contractor.

Implementation of this proposed sale will not require the assignment of any additional U.S. Government or contractor representatives to Romania.

There will be no adverse impact on U.S. defense readiness as a result of this proposed sale.

Transmittal No. 24-94

Notice of Proposed Issuance of Letter of Offer Pursuant to Section 36(b)(1) of the Arms Export Control Act

Annex

Item No. vii

(vii) Sensitivity of Technology:

1. The F-35A Conventional Take Off and Landing (CTOL) aircraft is a single seat, single engine, all-weather, stealth, fifth-generation, multirole aircraft. It contains sensitive technology including the low observable airframe/outer mold line, the Pratt & Whitney F135 engine, AN/APG-81 radar, an integrated core processor central computer, a mission systems/electronic warfare suite, a multiple sensor suite, technical data/documentation and associated software.

a. The Pratt & Whitney F135 engine is a single 40,000-pound thrust class engine designed for the F-35 and assures highly reliable, affordable performance. The engine is designed to be utilized in all F-35 variants, providing unmatched commonality and supportability throughout the worldwide base of F-35 users.

b. The AN/APG-81 Active Electronically Scanned Array (AESA) is a high processing power/high transmission power electronic array capable of detecting air and ground targets from a greater distance than mechanically scanned array radars. It also contains a synthetic aperture radar (SAR), which creates high-resolution ground maps and provides weather data to the pilot, and air and ground tracks to the mission system, which uses it as a component to fuse sensor data.

c. The Electro-Optical Targeting System (EOTS) provides long-range detection and tracking, as well as an infrared search and track (IRST), and forward-looking infrared (FLIR) capability for precision tracking, weapons delivery, and bomb damage assessment (BDA). The EOTS replaces multiple separate internal or podded systems typically found on legacy aircraft.

d. The Electro-Optical Distributed Aperture System (EODAS) provides the pilot with full spherical coverage for air-to-air and air-to-ground threat awareness, day/night vision enhancements, a fire control capability, and precision tracking of wingmen/friendly aircraft. The EODAS provides data directly to the pilot's helmet as well as to the mission system.

e. The F-35 Electronic Warfare (EW) system is a reprogrammable, integrated system that provides radar warning and electronic support measures (ESM), along with a fully integrated countermeasures (CM) system. The EW system is the primary subsystem used to enhance situational awareness, targeting support, and self-defense through the search, intercept, location, and identification of in-band emitters and to automatically counter IR and RF threats.

f. The F-35 Command, Control, Communications, Computers, and Intelligence/Communications, Navigation, and Identification (C4I/CNI) system provides the pilot with unmatched connectivity to flight members, coalition forces, and the battlefield. It is an integrated subsystem designed to provide a broad spectrum of secure, anti-jam voice and data communications, precision radio navigation and landing capability, self-identification, beyond visual range target identification, and connectivity to off-board sources of information. It also includes an inertial navigation and global positioning system (GPS) provided by Selective Availability Anti-Spoofing Module (SAASM) and/or M-code for precise location information. The functionality is tightly integrated within the mission system to enhance efficiency.

g. The F-35 C4I/CNI system includes two data links: the Multi-Function Advanced Data Link (MADL), and Link 16. The MADL is designed specifically for the F-35 and allows for stealthy communications between F-35s. Link 16 is an advanced command, control, communications, and intelligence (C3I) system incorporating jam-resistant, digital communication links for exchange of near real-time tactical information, including both data and voice, among air, ground, and sea elements. It provides the warfighter key theater functions such as surveillance, identification, air control, weapons engagement coordination, and direction for all services and allied forces. Link-16 equipment allows the F-35 to communicate with legacy aircraft using widely distributed J-series message protocols.

h. The F-35 Autonomic Logistics Global Sustainment (ALGS) provides a fully integrated logistics management solution. ALGS integrates a number of functional areas, including supply chain management, repair, support equipment, engine support, and training. The ALGS infrastructure employs a state-of-the-art information system that provides real-time, decision-worthy information for sustainment decisions by flight line personnel. Prognostic health monitoring technology is integrated with the air system and is crucial to predictive maintenance of vital components.

i. The F-35 Autonomic Logistics Information System (ALIS) provides an intelligent information infrastructure that binds all the key concepts of ALGS into an effective support system. ALIS establishes the appropriate interfaces among the F-35 Air Vehicle, the warfighter, the training system, government information technology (IT) systems, and supporting commercial enterprise systems. Additionally, ALIS provides a comprehensive tool for data collection and analysis, decision support, and action tracking.

j. Other subsystems, features, and capabilities include the F-35's low observable air frame, Integrated Core Processor (ICP) Central Computer, Helmet Mounted Display System (HMDS), Pilot Life Support System (PLSS), Off-Board Mission Support (OMS) System, and publications/maintenance manuals. The HMDS provides a fully sunlight readable, bi-ocular display presentation of aircraft information projected onto the pilot's helmet visor. The use of a night vision camera integrated into the helmet eliminates the need for separate Night Vision Goggles. The PLSS provides a measure of Pilot Chemical, Biological, and Radiological Protection through use of an On-Board Oxygen Generating System (OBOGS); and an escape system that provides additional protection to the pilot. OBOGS takes the Power and Thermal Management System (PTMS) air and enriches it by removing gases (mainly nitrogen) by adsorption, thereby increasing the concentration of oxygen in the product gas and supplying breathable air to the pilot. The OMS provides a mission planning, mission briefing, and a maintenance/intelligence/tactical debriefing platform for the F-35.

2. The Electronic Warfare Reprogramming Lab is used by U.S. Government engineers in the reprogramming and creation of shareable Mission Data Files for foreign F-35 customers.

3. The AN/PYQ-10 Simple Key Loader is a portable, hand-held device used for securely receiving, storing, and transferring data between compatible cryptographic and communications equipment.

4. The highest level of classification of defense articles, components, and services included in this potential sale is SECRET.

5. If a technologically advanced adversary were to obtain knowledge of the specific hardware and software elements, the information could be used to develop countermeasures that might reduce weapon system effectiveness or be used in the development of a system with similar or advanced capabilities.

6. A determination has been made that Romania can provide substantially the same degree of protection for the sensitive technology being released as the U.S. Government. This sale is necessary in furtherance of the U.S. foreign policy and national security objectives outlined in the Policy Justification.

7. All defense articles and services listed in this transmittal have been authorized for release and export to the Government of Romania.

[FR Doc. 2025-20505 Filed 11-20-25; 8:45 am]

BILLING CODE 6001-FR-P